CORPORATION FOR NATIONAL AND COMMUNITY SERVICE

Availability of Funds To Provide Grants to Organizations That Support Service Days or Events That Include Persons With Disabilities

AGENCY: Corporation for National and Community Service.

ACTION: Notice of availability of funds.

SUMMARY: The Corporation for National and Community Service (the Corporation) announces the availability of approximately $1 million to support outreach to increase the participation of persons with disabilities in national service projects. The Corporation will use these funds to eligible applicants who will in turn sub-grant to local organizations to plan and carry out outreach for service opportunities for individuals with disabilities in conjunction with one or more service days or events (e.g., Martin Luther King, Jr. Day, Youth Service Day, Make a Difference Day, National Volunteer Week) within the next year. These service opportunities must include persons with disabilities to increase their participation in national service. We expect to award up to two grants in amounts ranging from $100,000 to $1,000,000.

DATES: All proposals must arrive at the Corporation no later than 5 p.m., Eastern Daylight Time, on August 15, 2000. We anticipate announcing the selections no later than September 11, 2000.

ADDRESSES: Proposals must be submitted to the Corporation at the following address: Corporation for National and Community Service, Attn: Nancy Talbot, 1201 New York Avenue NW, Washington, D.C. 20525.

FOR FURTHER INFORMATION CONTACT: For further information, or to obtain an application, contact Thea Kachoris at (202) 606-5000, ext. 562, TDD (202) 565-2799. This notice may be requested in an alternative format.

SUPPLEMENTARY INFORMATION:

A. Background

The Corporation was established in 1993 to engage Americans of all ages and backgrounds in service to their communities. The Corporation's national service programs provide opportunities for participants to serve full-time and part-time, with or without stipend, as individuals or as part of a team. AmeriCorps*State, National, VISTA, and National Civilian Community Corps programs engage thousands of Americans on a full, or part-time basis, at over 1,000 locations to help communities meet their toughest challenges. Learn and Serve America integrates service into the academic life or experiences of over one million youth from kindergarten through higher education in all 50 states. The National Senior Service Corps utilizes the skills, talents and experience of over 500,000 older Americans to help make communities stronger, safer, healthier, and smarter.

AmeriCorps*State and AmeriCorps*National programs that involve over 40,000 Americans each year in result-driven community service, are grant programs managed by: (1) State commissions that select and oversee programs operated by local organizations; (2) national non-profit organizations that act as parent organizations for operating sites across the country; (3) Indian tribes; or (4) U.S. Territories. In addition, the Corporation supports the AmeriCorps*VISTA (Volunteers in Service to America) and AmeriCorps*NCCC (National Civilian Community Corps) programs. More than 6,000 AmeriCorps*VISTA members develop grassroots programs, mobilize resources and build capacity for service across the nation. AmeriCorps*NCCC provides the opportunity for approximately 1,000 individuals between the ages of 18 and 24 to participate each year in ten-month residential programs located mainly on inactive military bases. Learn and Serve America grants provide service-learning opportunities for youth through grants to state education agencies, community-based organizations, and higher education institutions and organizations, and Indian Tribes and Territories. The National Senior Service Corps operates through grants to nearly 1,300 local organizations for the Retired and Senior Volunteer (RSVP), Foster Grandparent (FGP) and Senior Companion (SCP) programs to provide service to their communities. For additional information on the national service programs supported by the Corporation, go to http://www.nationalservice.org.

The Corporation is committed to increasing the participation of persons with disabilities in national service. We recently sponsored a national conference that brought together disability organizations and national service programs to better understand opportunities and avenues for collaboration. We are continuing our commitment by providing these funds, authorized under section 129(d)(5)(C) of the National and Community Service Act of 1990, to support outreach to persons with disabilities to increase their participation in national service activities. We expect to issue an additional announcement in July for a larger number of grants to support on-going outreach efforts.

B. Eligible Applicants

Eligible applicants for this funding are nonprofit organizations with experience in promoting or administering national days of service or service events. The nonprofit organization must have experience in making grants to or entering into partnerships with local nonprofit organizations or agencies in more than one state.

Eligible sub-grantees are nonprofit organizations and public agencies, including, but not limited to: volunteer centers, institutions of higher education, local education agencies, educational institutions, disability-related organizations, and local or state governments. An organization described in section 501(c)(4) of the Internal Revenue Code of 1986, 26 U.S.C. 501(c)0(4), that engages in lobbying activities, is not eligible to be a grantee or subgrantee.

Based on the requirements for applicants and the number of grants to be awarded under this notice, the Corporation expects fewer than ten applications to be submitted.

C. Statutory Authority

Section 129(d)(5)(C) of the National and Community Service Act authorizes the Corporation to make grants to pay for the Federal share of (1) Providing information about national service activities to persons with disabilities and (2) enabling such persons to participate.

D. Purpose of Funds

This is an outreach effort to encourage individuals with a disability to participate in national service days of service or events. Our goal is to use this strategy to increase the number of persons with disabilities who are familiar with service and may choose to participate in a national service program or project as a result of their participation in a service day event. The Corporation will use these funds to make grants to organizations who will in turn subgrant to eligible organizations. These sub-grantees will plan and carry out service opportunities in conjunction with one or more national service days or events within the 2000-2001 program year (e.g., Martin Luther King, Jr. Day, Youth Service Day, Make a Difference Day, National Volunteer Week) and intend to include persons with and without disabilities in carrying out the project. For more information about these days and events, contact Rhonda Taylor at (202) 606-5000, ext. 282.

We expect to award up to two grants in amounts ranging from $100,000 to $1,000,000 to cover a project period of one year. Grantees must designate specific sub-grants within six months of our grant award.

E. Matching Funds Requirement

The Federal share of the cost of carrying out activities under these grants may not exceed 75 percent. A grantee may comply with this requirement through cash or in-kind resources. Cash match may be in the form of State funds, local funds, or Federal funds (other than funds made available under the national service laws).

F. Scope of Activities To Be Supported by Outreach Sub-Grants

The purpose of these funds is to support service projects to engage persons with disabilities and increase their participation in national service. Efforts to recruit persons with disabilities to participate in the service days will be supported by this grant. Therefore, we expect that a significant portion of the community service activities supported by the sub-grant will be conducted by persons with disabilities. In addition, we encourage activities where persons with disabilities and others are working side-by-side. Applicants must propose clearly-defined and specific activities to reach organizations that will apply as sub-grantees.

The direct service to be done on and in connection with the service days may include, but is not limited to, the following types of activities: tutoring children or adults, feeding the hungry, packing lunches, delivering meals, stocking a food or clothing pantry, repairing a school and adding to its resources, translating books and documents into other languages, recording books for the visually impaired, restoring a public space, organizing a blood drive, registering bone marrow and organ donors, renovating low-income or senior housing, building a playground, removing graffiti and painting a mural, building or repairing homes for families in need, arranging safe spaces for children who are out of school and whose parents are working, collecting oral histories of elders, running health fairs, and gleaning and distributing fruits and vegetables.

Although celebrations, parades, and recognition ceremonies may be a part of the activities planned on the day of service, for the purposes of this grant those activities may not be supported.

Grants will be subject to the National and Community Service Act and to applicable Corporation regulations, including those published in 45 C.F.R. Parts 2540-2543.

G. Application Requirements

To be considered for funding, eligible applicants should submit the following:

1. An Application for Federal Assistance (SF 424).

2. Budget Information—Non-Construction Programs (SF 424A).

3. A Budget Narrative that provides a description of the budget form. It may be easier to complete the budget narrative first, using the line items on the SF 424A as a guide. The budget narrative should be in the same order as the budget form with requested Corporation funds clearly defined. For each of the line items contained on the budget form, provide a full explanation in the budget narrative that explains the item, its purpose, and shows how you calculated the cost.

4. Assurances—Non-Construction Programs (SF 424B).

5. A Program Narrative (no more than 20 pages) that includes:

a. The organization's background and capacity to provide sound programmatic and fiscal oversight to sub-grantees, including experience in administering federal grants.

b. Outreach plan to solicit sub-grantees.

c. Process to select sub-grantees and selection criteria. This should include the process you will use to ensure the organizational capacity of sub-grantees including experience of sub-grantee(s) in administering federal grants, the track record of sub-grantees in organizing service projects, and the ability of sub-grantees to reach and engage persons with disabilities.

d. Description of how you will assure sub-grantee compliance with requirements.

e. Description of resources available to manage this grant and how you will assess this in selecting sub-grantees.

f. Timeline that covers major activities of the application.

Applicants must submit one (1) Unbound, original proposal and two (2) copies to the following address: Corporation for National and Community Service, Attn: Nancy Talbot, 1201 New York Avenue NW, Washington, D.C. 20525. We will not accept any proposals submitted by facsimile. All applicants are encouraged to submit voluntarily an additional four (4) copies of the application to expedite the review process.

Copies of the SF 424, SF 424A, and SF 424 B can be obtained at the following website: http://fillform.gsa.gov/. For a printed copy of any of these materials, please contact Thea Kachoris at (202) 606-5000, ext. 562.

H. Selection Process and Criteria

In awarding these grants, the Corporation will consider program design, organizational capacity, and budget and cost effectiveness. Applicants must propose clearly-defined and specific activities to reach organizations that will apply as sub-grantees.

The Corporation will make all final decisions concerning awards and may require revisions to the original grant proposal in order to achieve the objectives under this Notice.

CFDA No. 94.007

Dated: June 20, 2000.
Gary Kowalczyk,
Coordinator, National Service Programs, Corporation for National and Community Service.

[FR Doc. 00-16044 Filed 6-23-00; 8:45 am]

BILLING CODE 6050-28-U